DEPARTMENT OF THE INTERIOR

National Park Service

[NPS-WASO-NAGPRA-11478 2200-1100-665]

Notice of Inventory Completion: Maxwell Museum of Anthropology, University of New Mexico, Albuquerque, NM; Correction

AGENCY: National Park Service, Interior.

ACTION: Notice; correction.

SUMMARY: The Maxwell Museum's Laboratory of Human Osteology has corrected an inventory of human remains published in a Notice of Inventory Completion in the Federal Register on September 13, 2011. This notice corrects the minimum number of individuals in that inventory. Representatives of any Indian tribe that believes itself to be culturally affiliated with the human remains may contact the Maxwell Museum of Anthropology. Repatriation of the human remains to the Indian tribe stated below may occur if no additional claimants come forward.

DATES: Representatives of any Indian tribe that believes it has a cultural affiliation with the human remains should contact the Maxwell Museum at the address below by November 26, 2012.

ADDRESSES: Dr. Heather Edgar, Maxwell Museum of Anthropology, MSC01 1050, University of New Mexico, Albuquerque, NM 87131-0001, telephone (505) 277-4415.

SUPPLEMENTARY INFORMATION: Notice is here given in accordance with the Native American Graves Protection and Repatriation Act (NAGPRA), 25 U.S.C. 3003, of the correction of an inventory of human remains in the possession of the Maxwell Museum, Albuquerque, NM.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals published in a Notice of Inventory Completion in the Federal Register (76 FR 56468-56469, September 13, 2011). Following publication, additional culturally affiliated human remains that came from the sites published in the initial notice were discovered in the collection.

Correction

In the Federal Register (76 FR 56468-56469, September 13, 2011), paragraph seven, sentence one is corrected by substituting the number 310 in place of the number 189.

In the Federal Register (76 FR 56468-56469, September 13, 2011), paragraph eight, sentence one is corrected by substituting the number 173 in place of the number 78.

In the Federal Register (76 FR 56468-56469, September 13, 2011), paragraph nine, sentence one is corrected by substituting the number 103 in place of the number 65.

In the Federal Register (76 FR 56468-56469, September 13, 2011), paragraph ten, sentence one is corrected by substituting the number 199 in place of the number 84.

In the Federal Register (76 FR 56468-56469, September 13, 2011), paragraph twelve, bullet one is corrected by substituting the number 785 in place of the number 416.

Additional Requestors and Disposition

Representatives of any Indian tribe that believes itself to be culturally affiliated with the human remains should contact Dr. Heather Edgar, Maxwell Museum of Anthropology, Albuquerque, NM 87131-0001, telephone (505) 277-4415 before November 26, 2012. Repatriation of the human remains to the Pueblo of Jemez, New Mexico, may proceed after that date if no additional claimants come forward.

The Maxwell Museum is responsible for notifying the Pueblo of Jemez, New Mexico, that this notice has been published.

Dated: October 10, 2012.
Sherry Hutt,
Manager, National NAGPRA Program.

[FR Doc. 2012-26319 Filed 10-25-12; 8:45 am]

BILLING CODE 4312-50-P